DEPARTMENT OF TRANSPORTATION

Federal Aviation Administration

Notice of Intent To Release Certain Properties From All Terms, Conditions, Reservations, and Restrictions of a Quitclaim Deed Agreement Between the Sarasota Manatee Airport Authority and the Federal Aviation Administration for the Sarasota Bradenton International Airport, Sarasota, FL

AGENCY: Federal Aviation Administration (FAA), DOT.

ACTION: Request for public comment.

SUMMARY: The FAA hereby provides notice of intent to release certain airport properties 3.795 acres at the Sarasota Bradenton International Airport, Sarasota, FL from the conditions, reservations, and restrictions as contained in a Quitclaim Deed agreement between the FAA and the Sarasota Manatee Airport Authority, dated March 18, 1947. The release of property will allow the Sarasota Manatee Airport Authority to dispose of the property for other than aeronautical purposes. The property is located in the land lying and being in the northwest ¼ of section 1, township 36 south, range 17 east, Sarasota County, Florida, being more particularly described as follows:

• The parcel is currently designated as non-aeronautical use. The property will be disposed of for the purpose of constructing an administration/mixed use building to contain administrative offices, classrooms, and seminar rooms; and to construct a gymnasium.

• The fair market value of the property has been determined by appraisal to be $4,140,000. The airport will receive fair market value for the property, which will be subsequently reinvested in another eligible airport improvement project or in operating and maintenance of the airport.

Documents reflecting the Sponsor's request are available, by appointment only, for inspection at the Sarasota Manatee Airport Authority Offices and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: February 1, 2007.

ADDRESSES: Documents are available for review at the Sarasota Manatee Airport Authority Office, 6000 Airport Circle, Sarasota, Florida 34243, and the FAA Airports District Office, 5950 Hazeltine National Drive, Suite 400, Orlando, FL 32822. Written comments on the Sponsor's request must be delivered or mailed to: Krystal Hudson, Program Manager, Orlando Airports District Office, 5950 Hazeltine National Drive, Suite 400, Orlando, FL 32822-5024.

FOR FURTHER INFORMATION CONTACT: Krystal Hudson, Program Manager, Orlando Airports District Office, 5950 Hazeltine National Drive, Suite 400, Orlando, FL 32822-5024.

W. Dean Stringer,
Manager, Orlando Airports District Office, Southern Region.

[FR Doc. 06-9933 Filed 12-29-06; 8:45 am]

BILLING CODE 4910-13-M